DEPARTMENT OF TRANSPORTATION

[Docket No. DOT-OST-2015-0271]

Agency Request for Renewal of a Previously Approved Information Collection: Prioritization and Allocation Authority Exercised by the Secretary of Transportation Under the Defense Production Act

AGENCY: Office of the Secretary of Transportation, DOT.

ACTION: Notice and request for comments.

SUMMARY: The Department of Transportation (DOT) invites public comments about our intention to request the Office of Management and Budget (OMB) approval to renew an information collection. The collection involves information required in an application to request Special Priorities Assistance. The information to be collected is necessary to facilitate the supply of civil transportation resources to promote the national defense. A Federal Register Notice with a 60-day comment period soliciting comments on the following information collection was published on January 26, 2016 (81 FR 4364). No comments were received.

DATES: Written comments should be submitted by April 25, 2016.

ADDRESSES: Your comments should be identified by Docket No. DOT-OST-2015-0271 and may be submitted through one of the following methods:

• Office of Management and Budget, Attention: Desk Officer for U.S. Department of Transportation, Office of Information and Regulatory Affairs, Office of Management and Budget, Docket Library, Room 10102, 725 17th Street NW., Washington, DC 20503.

• email: oira_submission@omb.eop.gov.

• Fax: (202) 395-5806. Attention: DOT/OST Desk Officer.

FOR FURTHER INFORMATION CONTACT: Deborah Hinz, 202-366-6945, Office of Intelligence, Security and Emergency Response, Office of the Secretary of Transportation, U.S. Department of Transportation, 1200 New Jersey Avenue SE., Washington, DC 20590.

SUPPLEMENTARY INFORMATION:

OMB Control Number: 2105-0567.

Title: Prioritization and Allocation Authority Exercised by the Secretary of Transportation Under the Defense Production Act.

Form Numbers: OST F 1254.

Type of Review: Renewal of a previously approved information collection.

Background: The Defense Production Act Reauthorization of 2009 (Pub. L. 111-67, September 30, 2009) requires each Federal agency with delegated authority under section101 of the Defense Production Act of 1950, as amended (50 U.S.C. App. § 2061 et seq.) to issue final rules establishing standards and procedures by which the priorities and allocations authority is used to promote the national defense. The Secretary of Transportation has the delegated authority for all forms of civil transportation. DOT's final rule, Transportation Priorities and Allocations System (TPAS), published October 2012, requires this information collection. Form OST F 1254, Request for Special Priorities Assistance, would be filled out by private sector applicants, such as transportation companies or organizations. The private sector applicant must submit company information, the services or items for which the assistance is requested, and specific information about those services or items.

Respondents: Private sector applicants, such as transportation companies or organizations.

Number of Respondents: We estimate 6 respondents.

Total Annual Burden: We estimate an average burden of 30 minutes per respondent for an estimated total annual burden of 3 hours.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Issued in Washington, DC, on March 18, 2016.
Habib Azarsina,
OST Privacy and PRA Officer.

[FR Doc. 2016-06663 Filed 3-23-16; 8:45 am]

BILLING CODE 4910-9X-P